DEPARTMENT OF HOMELAND SECURITY

Coast Guard

33 CFR Part 117

[Docket No. USCG-2012-0746]

Drawbridge Operation Regulations; Gulf Intracoastal Waterway, St. Petersburg/Tampa, FL

AGENCY: Coast Guard, DHS.

ACTION: Notice of temporary deviations from regulations.

SUMMARY: The Coast Guard has issued temporary deviations from the operating schedules that govern seven bridges in St. Petersburg and Tampa, Florida. The deviations are necessary to allow for the safe transportation of officials and participants to the Republican National Convention (RNC). These deviations will result in the seven bridges remaining in the closed position for the time periods listed. This temporary deviation affects the following bridges: The Walsingham Road/Indian Rocks Beach (CR 688) Bridge; the Park Boulevard (CR 694) Bridge; the Welch/Tom Stuart Causeway/150th Avenue Bridge; the Treasure Island Causeway Bridge; the Corey Causeway/Pasadena Avenue Bridge; the Pinellas Bayway Structure “C” (SR 679) Bridge; and Johns Pass Bridge.

DATES: These deviations are effective from 3 p.m. on August 26, 2012 through 7 p.m. on August 30, 2012.

ADDRESSES: Documents mentioned in this preamble as being available in the docket are part of docket USCG-2012-0746 and are available online by going to http://www.regulations.gov, inserting USCG-2012-0746 in the “Keyword” box and then clicking “Search”. They are also available for inspection or copying at the Docket Management Facility (M-30), U.S. Department of Transportation, West Building Ground Floor, Room W12-140, 1200 New Jersey Avenue SE., Washington, DC 20590, between 9 a.m. and 5 p.m., Monday through Friday, except Federal holidays.

FOR FURTHER INFORMATION CONTACT: If you have questions on this rule, call or email Michael Lieberum, Seventh District Bridge Branch, Coast Guard; telephone (305) 415-6744, email Michael.B.Lieberum@uscg.mil. If you have questions on viewing the docket, call Renee V. Wright, Program Manager, Docket Operations, telephone (202) 366-9826.

SUPPLEMENTARY INFORMATION: Coast Guard Sector St Petersburg, FL has requested temporary modifications to the operating schedules of seven bridges in St. Petersburg and Tampa, FL. Unrestricted vehicle access on these bridges during peak traffic periods is necessary to ensure the security and safety of delegates and officials at the RNC. Bridge openings during the listed times could disrupt or endanger the safe transit of officials and delegates between their hotels and the site of the RNC. Numerous Federal, State, and local agencies, including U.S. Secret Service, Federal Bureau of Investigation, Customs and Border Protection, U.S. Coast Guard, and the Joint Terrorism Task Force have developed comprehensive security plans to protect participants and the public during the RNC. As part of the comprehensive effort, these bridge deviations are necessary for the security and safety of delegates, officials, and participants for the 2012 Republican National Convention.

The seven bridges affected by this temporary deviation are: the Walsingham Road/Indian Rocks Beach (CR 688) Bridge; the Park Boulevard (CR 694) Bridge; the Welch/Tom Stuart Causeway/150th Avenue Bridge; the Treasure Island Causeway Bridge; the Corey Causeway/Pasadena Avenue Bridge; the Pinellas Bayway Structure “C” (SR 679) Bridge; and Johns Pass Bridge across Johns Pass, Madeira Beach, Florida.

These deviations will result in these seven bridges remaining in the closed position at certain times during the RNC from August 26, 2012, through August 30, 2012. The temporary deviations will close these bridges during the following periods: from 3:30 p.m. through 7:30 p.m. on August 26, 2012; 11 a.m. to 2 p.m. and 3:30 p.m. to 6:30 p.m. on August 27, 2012; 3:30 p.m. to 6:30 p.m. on August 28, 2012; 3:30 p.m. to 6:30 p.m. on August 29, 2012; and from 3:30 p.m. to 6:30 p.m. on August 30, 2012. Tugs and tugs with tows are not exempt from this deviation.

The details and regular operating schedule for each bridge are set forth below.

1. Walsingham Road/Indian Rocks Beach (CR 688) Bridge, mile 128.2. The normal operating schedule for the Walsingham Road/Indian Rocks Beach (CR 688) Bridge is set forth in 33 CFR 117.5. 33 CFR 117.5 requires the bridge to open promptly and fully for the passage of vessels when a request or signal to open is given in accordance with this subpart. This bascule bridge has a vertical clearance of 21 feet in the closed position. Vessels are permitted to transit under this bridge in the closed position.

2. Park Boulevard (CR 694) Bridge, mile 126.0. The normal operating schedule for the Park Boulevard Bridge is set forth in 33 CFR 117.5. 33 CFR 117.5 requires the bridge to open promptly and fully for the passage of vessels when a request or signal to open is given in accordance with this subpart. This bascule bridge has a vertical clearance of 20 feet in the closed position. Vessels are permitted to transit under this bridge in the closed position.

3. Welch/Tom Stuart Causeway/150th Avenue Bridge, mile 122.8. The normal operating schedule for the Welch/Tom Stuart Causeway/150th Avenue Bridge is set forth in 33 CFR 117.287(h). 33 CFR 117.287(h) requires the bridge to open on signal, except that from 9:30 a.m. to 6 p.m. on Saturdays, Sundays, and Federal holidays, the draw need be opened only on the hour, 20 minutes after the hour and 40 minutes after the hour. This bascule bridge has a vertical clearance of 25 feet in the closed position. Vessels are permitted to transit under this bridge in the closed position.

4. Treasure Island Causeway Bridge, mile 119.0. The normal operating schedule for the Treasure Island Causeway Bridge is set forth in 33 CFR 117.5. 33 CFR 117.5 requires the bridge to open promptly and fully for the passage of vessels when a request or signal to open is given in accordance with this subpart. This bascule bridge has a vertical clearance of 21 feet in the closed position. Vessels are permitted to transit under this bridge in the closed position.

5. Corey Causeway/Pasadena Avenue Bridge, mile 117.7. The normal operating schedule for the Corey Causeway/Pasadena Avenue Bridge is set forth in 33 CFR 117.287(f). 33 CFR 117.287(f) requires the bridge to open on signal, except that from 8 a.m. to 7 p.m. Monday through Friday and 10 a.m. to 7 p.m. on Saturdays, Sundays, and Federal holidays, the draw need be opened only on the hour, 20 minutes after the hour and 40 minutes after the hour. This bascule bridge has a vertical clearance of 23 feet in the closed position. Vessels are permitted to transit under this bridge in the closed position.

6. Pinellas Bayway Structure “C” (SR 679) Bridge, mile 114.0. The normal operating schedule for the Pinellas Bayway Structure “C” (SR 679) Bridge is set forth in 33 CFR 117.287(e). 33 CFR 117.287(e) requires the bridge to open on signal, except that from 7 a.m. to 7 p.m., the draw need open only on the hour, 20 minutes after the hour and 40 minutes after the hour. This bascule bridge has a vertical clearance of 25 feet in the closed position. Vessels are permitted to transit under this bridge in the closed position.

7. Johns Pass Bridge, mile 1.0. The normal operating schedule for the Johns Pass Bridge is set forth in 33 CFR 117.5. 33 CFR 117.5 requires the bridge to open promptly and fully for the passage of vessels when a request or signal to open is given in accordance with this subpart. This bascule bridge has a vertical clearance of 28 feet in the closed position. Vessels are permitted to transit under this bridge in the closed position.

Any vessel requiring emergency opening of any of these seven bridges should make a request to the Captain of the Port St. Petersburg by telephone at (727) 824-7524.

In accordance with 33 CFR 117.35(e), these drawbridges must return to their regular operating schedules immediately at the end of the designated time period. These deviations from the operating regulations are authorized under 33 CFR 117.35.

Dated: August 15, 2012.
B.L. Dragon,
Bridge Program Director, Seventh Coast Guard District.

[FR Doc. 2012-20829 Filed 8-23-12; 8:45 am]

BILLING CODE 9110-04-P